DEPARTMENT OF HEALTH AND HUMAN SERVICES

Centers for Disease Control and Prevention

[60Day-22-1105; Docket No. CDC-2021-0117]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled the One Health Harmful Algal Bloom System (OHHABS). OHHABS is a surveillance platform which captures data on harmful algal bloom (HAB) events and HAB-associated illnesses.

DATES: CDC must receive written comments on or before January 18, 2022.

ADDRESSES: You may submit comments, identified by Docket No. CDC-2021-0117 by any of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

One Health Harmful Algal Bloom System (OHHABS) (OMB Control No. 0920-1105, Exp. 3/31/2022)—Revision—National Center for Emerging and Zoonotic Infectious Diseases (NCEZID), Centers for Disease Control and Prevention (CDC).

Background and Brief Description

Algal toxins from harmful algal blooms (HABs) include some of the most potent natural chemicals. These toxins can contaminate surface water used for recreation and drinking, as well as food sources, and HABs pose a threat to both humans and animals. Because animal illness may be an indicator of bloom toxicity, it is necessary to provide a One Health approach for reporting HAB-associated illnesses and events.

The One Health Harmful Algal Bloom System (OHHABS) was approved for data collection in 2016 and collects data on harmful algal blooms (HABs) and human and animal illnesses related to HAB exposures to support the understanding of HABs and the prevention of HAB-associated illnesses. As such, OHHABS is a centralized data source for voluntary public health surveillance of HAB events and HAB-associated illnesses using a One Health approach that takes into consideration information from the environment, animal cases, and human cases.

CDC requests OMB approval for an estimated 76 annual burden hours. There are no costs to respondents other than their time.

Estimated Annualized Burden Hours
Type of respondents | Form name | Number of respondents | Number of responses per respondent | Average burden per response (in hours) | Total burden (in hours)
OHHABS State Reporting Sites | One Health Harmful Algal Bloom System (OHHABS) (electronic, year-round) | 57 | 4 | 20/60 | 80/60
Total |  |  |  |  | 76

Jeffrey M. Zirger,
Lead, Information Collection Review Office, Office of Scientific Integrity, Office of Science, Centers for Disease Control and Prevention.

[FR Doc. 2021-24993 Filed 11-15-21; 8:45 am]

BILLING CODE 4163-18-P